DEPARTMENT OF EDUCATION

Office of Safe and Drug-Free Schools; Overview Information; Safe Schools/Healthy Students; Notice Inviting Applications for New Awards for Fiscal Year (FY) 2005

Catalog of Federal Domestic Assistance (CFDA) Number: 84.184L.

DATES: Applications Available: March 10, 2005.

Deadline for Transmittal of Applications: April 29, 2005.

Deadline for Intergovernmental Review: June 29, 2005.

Eligible Applicants: Local educational agencies (LEAs) or consortia of LEAs that have not received funds or services under the Safe Schools/Healthy Students (SS/HS) initiative during any previous fiscal year.

Estimated Available Funds: $74,800,000.

Estimated Range of Awards: Up to $1,000,000 per year for LEAs or consortia in rural areas and Bureau of Indian Affairs (BIA) schools; up to $2,000,000 per year for LEAs or consortia in suburban areas; and up to $3,000,000 per year for LEAs or consortia in urban areas.

Estimated Average Size of Awards: $2,000,000 per year.

Maximum Award: We will reject any application that proposes a budget that exceeds the maximum amount established for its defined urbanicity. The maximum amount for SS/HS funds is $3 million for urban LEAs for a 12-month period; $2 million for suburban LEAs for a 12-month period; and $1 million for rural LEAs and BIA schools for a 12-month period. To determine urbanicity and the maximum amount they are eligible to apply for, all applicants except BIA schools must use the district locale code on the National Public School and School District Locator Web site (available online at http://www.nces.ed.gov/ccd/districtsearch) and the definitions established in the notice of final priority, selection criteria, requirements, and definitions for the SS/HS program published in the Federal Register on May 28, 2004 (69 FR 30756). A BIA school's request must not exceed $1 million.

Estimated Number of Awards: 40.

Note: The Department is not bound by any estimates in this notice.

Project Period: Up to 36 months.

Full Text of Announcement

I. Funding Opportunity Description

Purpose of Program: This program provides Federal financial assistance to LEAs to implement an integrated, comprehensive community-wide plan designed to create safe and drug-free schools and promote prosocial skills and healthy childhood development in youth.

Priority: This priority is from the notice of final priority, selection criteria, requirements, and definitions, for this program, published in the Federal Register on May 28, 2004 (69 FR 30756).

Absolute Priority: For FY 2005 this priority is an absolute priority. Under 34 CFR 75.105(c)(3) we consider only applications that meet this priority.

This priority supports the projects of LEAs proposing to implement an integrated, comprehensive community-wide plan designed to create safe and drug-free schools and promote prosocial skills and healthy childhood development in youth. Plans must focus activities, curricula, programs, and services in a manner that responds to all of the following six elements —

Element One—Safe school environment—Note: No more than 10 percent of the total budget for each year may be used to support costs associated with (1) security equipment and personnel, and (2) minor remodeling of school facilities to improve school safety;

Element Two—Alcohol and other drugs and violence prevention and early intervention programs;

Element Three—School and community mental health preventive and treatment intervention services;

Element Four—Early childhood psychosocial and emotional development programs;

Element Five—Supporting and connecting schools and communities; and

Element Six—Safe school policies.

Program Authority: Safe and Drug-Free Schools and Communities Act (20 U.S.C. 7131); Public Health Service Act (42 U.S.C. 290aa); and Juvenile Justice and Delinquency Prevention Act (42 U.S.C. 5614(b)(4)(e) and 5781 et seq.).

Applicable Regulations: (a) The Education Department General Administrative Regulations (EDGAR) in 34 CFR parts 74, 75, 77, 79, 80, 81, 82, 84, 85, 97, 98, 99, and 299. (b) The notice of final priority, selection criteria, requirements, and definitions for this program, published in the Federal Register on May 28, 2004 (69 FR 30756).

II. Award Information

Type of Award: Discretionary grants.

Estimated Available Funds: $74,800,000.

Estimated Range of Awards: Up to $1,000,000 per year for LEAs or consortia in rural areas and BIA schools; up to $2,000,000 per year for LEAs or consortia in suburban areas; and up to $3,000,000 per year for LEAs or consortia in urban areas.

Estimated Average Size of Awards: $2,000,000 per year.

Maximum Award: We will reject any application that proposes a budget that exceeds the maximum amount established for its defined urbanicity. The maximum amount for SS/HS funds is $3 million for urban LEAs for a 12-month period; $2 million for suburban LEAs for a 12-month period; and $1 million for rural LEAs and BIA schools for a 12-month period. To determine urbanicity and the maximum amount they are eligible to apply for, all applicants except BIA schools must use the district locale code on the National Public School and School District Locator Web site (available online at http://www.nces.ed.gov/ccd/districtsearch) and the definitions established in the notice of final priority, selection criteria, requirements, and definitions for the SS/HS program published in the Federal Register on May 28, 2004 (69 FR 30756). A BIA school's request must not exceed $1 million.

Estimated Number of Awards: 40.

Note: The Department is not bound by any estimates in this notice.

Project Period: 36 months.

III. Eligibility Information

1. Eligible Applicants: LEAs or consortia of LEAs that have not received funds or services under the Safe Schools/Healthy Students (SS/HS) initiative during any previous fiscal year.

2. Cost Sharing or Matching: This program does not involve cost sharing or matching

3. Other: The applicant must include in its application two memoranda of agreement demonstrating the commitment of the required SS/HS partners. Two agreements must be signed by the required partners (as described in paragraphs (a) and (b)) and dated no earlier than six months prior to the SS/HS application deadline. Applicants must also include information in the application that supports the selection of the identified local law enforcement partner and juvenile justice partner and describes how those partners' activities will support and be integrated in the SS/HS strategy. Applicants must contact their State Department of Mental Health to identify the relevant local public mental health authority. Mental health entities that have no legal authority in the administrative oversight of the delivery of mental health services are not acceptable as the sole mental health partner. Each SS/HS application must include the local public mental health authority as a partner. (The local public mental health authority is not required to provide mental health services to the target population but must provide administrative control or oversight of the delivery of mental health services.)

(a) The first of these two agreements is the Memorandum of Agreement for the SS/HS Partners. This agreement must contain the signatures of the school superintendent and authorized representatives for the local public mental health authority and local law enforcement and juvenile justice agencies. This agreement must include the following information: A mission statement for the SS/HS partnership; the goals and objectives of the partnership; desired outcomes for the partnership; a description of how information will be shared among partners; and a description of the roles and responsibilities of each partner. Applicants submitting as a consortium of LEAs must demonstrate partnership with the relevant local law enforcement agency (or agencies), public mental health authority (or authorities) and juvenile justice agency (or agencies) for each of the participating LEAs in the consortium. Applicants must indicate those instances where a local law enforcement agency, public mental health authority, or juvenile justice agency has authority or jurisdiction for one or more of the participating LEAs in the consortium.

(b) The second of these two agreements is the Memorandum of Agreement for Mental Health Services. This agreement must contain the signatures of the school superintendent and the authorized representative of the local public mental health authority. The local public mental health authority must agree to provide administrative control and/or oversight of the delivery of mental health services. This agreement also must state procedures to be used for referral, treatment, and follow-up for children and adolescents with serious mental health problems. Applicants submitting as a consortium of LEAs must demonstrate partnership with the relevant public mental health authority (or authorities) for each of the participating LEAs in the consortium. Applicants must indicate those instances where a local public mental health authority has authority/jurisdiction for one or more of the participating LEAs in the consortium.

IV. Application and Submission Information

1. Address to Request Application Package: Education Publications Center (ED Pubs), P.O. Box 1398, Jessup, MD 20794-1398. Telephone (toll free): (877) 433-7827. Fax: (301) 470-1244. If you use a telecommunications device for the deaf (TDD), you may call (toll free): (877) 576-7734.

You may also contact ED Pubs at its Web site: http://www.ed.gov/pubs/edpubs.html or you may contact ED Pubs at its e-mail address: edpubs@inet.ed.gov.

If you request an application from ED Pubs, be sure to identify this competition as follows: CFDA number 84.184L.

You also may access the application package electronically at the following address: http://www.ed.gov/programs/dvpsafeschools/applicant.html.

Individuals with disabilities may obtain a copy of the application package in an alternative format (e.g., Braille, large print, audiotape, or computer diskette) by contacting the program contact person listed in section VII of this notice.

2. Content and Form of Application Submission: Requirements concerning the content of an application, together with the forms you must submit, are in the application package for this program.

Page Limit: The application narrative is where you, the applicant, address the selection criteria that reviewers use to evaluate your application. An application's narrative must be limited to the equivalent of no more than 40 pages and must adhere to the following standards:

• A “page” is 8.5″ by 11″, on one side only, with 1” margins at the top, bottom, and both sides.

• All text in the application narrative must be double spaced (no more than three lines per vertical inch) excluding titles, headings, footnotes, quotations, references, captions, text in charts, tables, figures and graphs.

• Text must be presented in a 12-point Courier New font.

• All pages must be consecutively numbered using the style 1 of 40, 2 of 40, etc.

The page limit does not apply to the cover sheet, project abstract, budget forms and worksheets, or the required attachments.

Our reviewers will not read any pages of your application that—

• Exceed the page limit if you apply these standards; or

• Exceed the equivalent of the page limit if you apply other standards.

3. Submission Dates and Times: Applications Available: March 10, 2005.

Deadline for Transmittal of Applications: April 29, 2005.

Applications for grants under this program must be submitted by mail or hand delivery. For information (including dates and times) about how to submit your application by mail or hand delivery, please refer to section IV. 6. Other Submission Requirements in this notice.

We do not consider an application that does not comply with the deadline requirements.

Deadline for Intergovernmental Review: June 29, 2005.

4. Intergovernmental Review: This program is subject to Executive Order 12372 and the regulations in 34 CFR part 79. Information about Intergovernmental Review of Federal Programs under Executive Order 12372 is in the application package for this program.

5. Funding Restrictions: No less than 7 percent of a grantee's budget for each year may be used to support costs associated with local evaluation activities. No more than 10 percent of the total budget for each year may be used to support costs associated with (1) security equipment and personnel, and (2) minor remodeling of school facilities to improve school safety. We reference additional regulations outlining funding restrictions in the Applicable Regulations section of this notice.

6. Other Submission Requirements: Applications for grants under this program must be submitted in paper format by mail or hand delivery.

a. Submission of Applications by Mail. If you submit your application by mail (through the U.S. Postal Service or a commercial carrier), you must mail the original and two copies of your application, on or before the application deadline date, to the Department at the applicable following address:

By mail through the U.S. Postal Service: U.S. Department of Education, Application Control Center, Attention: CFDA 84.184L, 400 Maryland Avenue, SW, Washington, DC 20202-4260; or

By mail through a commercial carrier: U.S. Department of Education, Application Control Center—Stop 4260, Attention: CFDA 84.184L, 7100 Old Landover Road, Landover, MD 20785-1506.

Regardless of the address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

b. Submission of Application by Hand Delivery. If you submit your application by hand delivery, you (or a courier service) must deliver the original and two copies of your application by hand, on or before the application deadline date, to the Department at the following address:

U.S. Department of Education, Application Control Center, Attention: CFDA 84.184L, 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department:

(1) You must indicate on the envelope and—if not provided by the Department—in Item 4 of the ED 424 the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

1. Selection Criteria: The selection criteria for this program are in the application package.

2. Review and Selection Process: Additional factors we consider in selecting an application for an award are: (1) geographic distribution and diversity of activities addressed by the projects; and (2) equitable distribution of grants among urban, suburban, and rural LEAs.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: If funded you are expected to submit, semi-annually, a performance report, which includes reporting on expenditures, as specified by the Secretary in 34 CFR 75.720. You are also expected to collect data on the key Government Performance and Results Act (GPRA) performance measures for this program and report those data annually to the Department. At the end of your project period, you must submit a final performance report that includes financial and evaluation information, as directed by the Secretary.

4. Performance Measures: Under the GPRA, we have developed four measures for evaluating the overall effectiveness of the SS/HS initiative: (1) The percentage of Safe Schools/Healthy Students grant sites that experience a decrease in the number of violent incidents at schools during the 3-year period; (2) The percentage of Safe Schools/Healthy Students grant sites that experience a decrease in substance abuse during the 3-year period; (3) The percentage of Safe Schools/Healthy Students grant sites that improve school attendance during the 3-year period; and (4) The percentage of SS/HS grant sites that increase mental health services to students and families during the 3-year grant period.

These measures constitute the Department's indicators of success for this initiative. Consequently, applicants for a grant under this program are advised to give careful consideration to these four measures in conceptualizing the design, implementation, and evaluation for their proposed project.

VII. Agency Contact

FOR FURTHER INFORMATION CONTACT: Karen Dorsey, U.S. Department of Education, 400 Maryland Avenue, SW., room 3E336, Washington, DC 20202-6450. Telephone: (202) 708-4674 or by e-mail: Karen.Dorsey@ed.gov.

If you use a telecommunications device for the deaf (TDD), you may call the Federal Relay Service (FRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

You may also view this document in text or PDF at the following Web site: http://www.ed.gov/programs/dvpsafeschools/applicant.html.

Note: The official version of this document is the document published in the Federal Register. Free Internet access to the official edition of the Federal Register and the Code of Federal Regulations is available on GPO Access at: http://www.gpoaccess.gov/nara/index.html

Dated: March 7, 2005.
Deborah A. Price,
Assistant Deputy Secretary for Safe and Drug-Free Schools.

[FR Doc. 05-4741 Filed 3-9-05; 8:45 am]

BILLING CODE 4000-01-P